DEPARTMENT OF DEFENSE

Office of the Secretary

Defense Health Board (DHB) Meeting

AGENCY: Department of Defense.

ACTION: Notice of meeting.

SUMMARY: Pursuant to the Federal Advisory Committee Act of 1972 (5 U.S.C., Appendix as amended), the Sunshine in the Government Act of 1976 (5 U.S.C. 552b, as amended), and 41 CFR 102-3.150, and in accordance with section 10(a)(2) of Public Law, the following meeting of the DoD Task Force on the Prevention of Suicide by Members of the Armed Forces, a subcommittee of the Defense Health Board (DHB), is announced:

DATES: November 10, 2009 from 9 a.m.-4 p.m.

ADDRESSES: Bethesda Marriott, 5151 Pooks Hill Road, Bethesda, MD 20814.

Written statements may be mailed to the above address, e-mailed to dhb@ha.osd.mil or faxed to (703) 681-3317.

FOR FURTHER INFORMATION CONTACT: Commander Edmond F. Feeks, Executive Secretary, Defense Health Board, Five Skyline Place, 5111 Leesburg Pike, Suite 810, Falls Church, Virginia 22041-3206, (703) 681-8448, EXT. 1228, Fax: (703) 681-3317, edmond.feeks@tma.osd.mil.

Additional information, agenda updates, and meeting registration are available online at the Defense Health Board Web site, http://www.ha.osd.mil/dhb.

The public is encouraged to register for the meeting. If special accommodations are required to attend (sign language, wheelchair accessibility) please contact Ms. Severine Bennett at (202) 374-5755 or bennett_severine@bah.com by October 29, 2009.

SUPPLEMENTARY INFORMATION: Purpose of the Meeting: The purpose of the meeting is to receive briefings regarding current efforts towards the prevention of suicide among members of the Armed Services.

Agenda: On November 10, 2009, the DoD Task Force on the Prevention of Suicide by Members of the Armed Forces will receive briefings on data and trend analysis of suicide in the Armed Forces regarding suicides in the Army, Navy, Air Force, and Marine Corps. The Task Force will also hear statements from a panel of Service members.

Pursuant to 5 U.S.C. 552b, as amended, and 41 CFR 102-3.140 through 102-3.165 and subject availability of space, the Defense Health Board meeting November 10, 2009, is open to the public. Any member of the public wishing to provide input to the Task Force on the Prevention of Suicide by Members of the Armed Forces should submit a written statement in accordance with 41 CFR 102-3.140(C) and section 10(a)(3) of the Federal Advisory Committee Act, and the procedures described in this notice. Written statement should be not longer than two type-written pages and must address the following detail: The issue, discussion, and a recommended course of action. Supporting documentation may also be included as needed to establish the appropriate historical context and to provide any necessary background information.

Individuals desiring to submit a written statement may do so through the Board's Designated Federal Officer (DFO) at the address detailed above at any point. However, if the written statement is not received at least 10 calendar days prior to the meeting, which is subject to this notice, then it may not be provided to or considered by the Task Force on the Prevention of Suicide by Members of the Armed Forces until the next open meeting.

The DFO will review all timely submissions with the Task Force on the Prevention of Suicide by Members of the Armed Forces Chairperson, and ensure they are provided to members of the Task Force before the meeting that is subject to this notice. After reviewing the written comments, the Chairperson and the Designated Federal Officer may choose to invite the submitter of the comments to orally present their issue during an open portion of this meeting or at a future meeting.

The DFO, in consultation with the Chairpersons of the Task Force on the Prevention of Suicide by Members of the Armed Forces, may, if desired, allot a specific amount of time for members of the public to present their issues for review and discussion by the Task Force on the Prevention of Suicide by Member of the Armed Forces.

Dated: October 20, 2009.
Patricia L. Toppings,
OSD Federal Register Liaison Officer, Department of Defense.

[FR Doc. E9-25698 Filed 10-23-09; 8:45 am]

BILLING CODE 5001-06-P